DEPARTMENT OF HEALTH AND HUMAN SERVICES

Food and Drug Administration

21 CFR Part 803

[Docket No. FDA-2008-N-0393]

RIN 0910-AF86

Medical Device Reporting: Electronic Submission Requirements

Correction

In proposed rule document E9-19683 beginning on page 42203 in the issue of Friday, August 21, 2009 make the following correction:

On page 42204, in the first column, under the DATES section, in the first line, “November 19, 2009” should read “Submit written or electronic comments on the proposed rule by November 19, 2009”.

[FR Doc. Z9-19683 Filed 8-24-09; 8:45 am]

BILLING CODE 1505-01-D